ENVIRONMENTAL PROTECTION AGENCY

40 CFR Part 52

[EPA-R02-OAR-2020-0432; FRL-10121-02-R2]

Approval and Promulgation of Air Quality Implementation Plans; New Jersey; Regional Haze State Implementation Plan for the Second Implementation Period

Correction

In Rule document 2023-25239, appearing on pages 78650-78655, in the issue of Thursday, November 16, 2023, make the following corrections:

1. On page 78650, in the third column, under the heading SUMMARY:, on the third line, the word “Staet” should read “State”.

2. On page 78651, in the first column, on the sixty-sixth line, the word “Staet” should read “State”.

3. On the same page, in the third column, on the ninth line, the word “Staet” should read “State”.

4. On the same page, in the same column, on the thirteenth line, the word “Staet's” should read “State”.

5. On the same page, in the same column, on the forty-eighth line, the word “Staet” should read “State”.

6. On page 78652, in the first column, on the eleventh line, the word “Staet” should read “State”.

7. On the same page, in the same column, on the sixteenth line, the word “Staet” should read “State”.

8. On the same page, in the same column, on the twentieth line, the word “Staet's” should read “State's”.

9. On the same page, in the second column, on the sixteenth line, the word “Staet's” should read “State's”.

10. On page 78653, in the first column, on the forty-seventh line, the word “Staet” should read “State”.

11. On the same page, in the second column, on the nineteenth line, the word “Staet” should read “State”.

12. On the same page, in the third column, on the fifteenth line, the word “Staet” should read “State”.

13. On the same page, in the same column, on the sixtieth line, the word “Staet” should read “State”.

14. On page 78654, in the first column, on the third line, the word “Staet” should read “State”.

15. On the same page, in the same column, on the sixth line, the word “Staet” should read “State”.

16. On the same page, in the same column, on the thirty-fourth line, the word “Staet” should read “State”.

[FR Doc. C1-2023-25239 Filed 11-28-23; 8:45 am]

BILLING CODE 0099-10-D